DEPARTMENT OF VETERANS AFFAIRS

38 CFR Part 8

RIN 2900-AJ78

National Service Life Insurance

AGENCY: Department of Veterans Affairs.

ACTION: Final rule; technical amendment.

SUMMARY: This document amends the Department of Veterans Affairs regulations regarding payments of premiums for National Service Life Insurance by correcting cross-references.

DATES: Effective date: April 12, 2000.

FOR FURTHER INFORMATION CONTACT: Ms. Jeanne Derrick, Attorney-Advisor, Department of Veterans Affairs Regional Office and Insurance Center, P.O. Box 8079, Philadelphia, Pennsylvania 19101, telephone number (215) 842-2000, ext. 4277, fax number (215) 381-3504.

SUPPLEMENTARY INFORMATION: In a final rule published in the Federal Register on February 15, 2000 (65 FR 7437), VA redesignated certain sections in 38 CFR part 8. This document makes changes regarding cross-references to reflect these redesignations.

Since this document makes only non-substantive changes, we are dispensing with prior notice and comment and delayed effective date provisions of 5 U.S.C. 552 and 553.

The Catalog of Federal Domestic Assistance Program number for this regulation is 64.103.

List of Subjects in 38 CFR Part 8

Disability benefits, Life insurance, Loan programs-veterans, Military personnel, Veterans.

Approved: April 6, 2000.
Thomas O. Gessel,
Director, Office of Regulations Management.

Accordingly, 38 CFR part 8 is corrected by making the following correcting amendments:

PART 8—NATONAL SERVICE LIFE INSURANCE

1. The authority citation for part 8 continues to read as follows:

Authority: 38 U.S.C. 501, 1901-1929, 1981-1988, unless otherwise noted.

§ 8.3 [Amended]

2. In § 8.3(a)(5), remove “(§ 8.9)” and add, in its place, “(§ 8.2(d))”.

3. In § 8.3(a)(7), remove “(§ 8.17)” and add, in its place, “(§ 8.14)”.

4. In § 8.3(b)(3), remove “(§ 8.17)” and add, in its place, “(§ 8.14)”.

§ 8.6 [Amended]

5. In § 8.6, remove “§§ 8.3, 8.4 or 8.5” and add, in its place, “§§ 8.2 or 8.3”.

§ 8.7 [Amended]

6. In § 8.7(a), remove “§ 8.11” and add, in its place, “§ 8.8”.

§ 8.9 [Amended]

7. In § 8.9, remove “§ 8.11” and add, in its place, “§ 8.8”; and, in both places it appears, remove “§ 8.11(a)” and add, in its place, “§ 8.8(a)”.

§ 8.10 [Amended]

8. In § 8.10(g), remove “§§ 8.17 and 8.18” and add, in its place, “§§ 8.14 and 8.15”.

§ 8.11 [Amended]

9. In § 8.11(a), remove “§ 8.17(b)” and add, in its place, “§ 8.14(b)”.

§ 8.24 [Amended]

10. In § 8.24, remove “§ 8.25” and add, in its place, “§ 8.22”.

[FR Doc. 00-9035 Filed 4-11-00; 8:45 am]

BILLING CODE 8320-01-P